DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before March 4, 2026.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Director, Office of Hazardous Materials Safety Special Permits Program, Pipeline and Hazardous Materials Safety Administration, U.S. Department of Transportation, East Building, PHH-6, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-6, 1200 New Jersey Avenue Southeast, Washington DC.

This notice of receipt of applications for special permit is published in accordance with part 107 of the Federal hazardous materials transportation law (49 U.S.C. 5117(b); 49 CFR 1.53(b)).

Issued in Washington, DC, on January 29, 2026.
Donald P. Burger,
Director, Special Permits Program.

Special Permits Data
Application No. | Applicant | Regulation(s) affected | Nature of the special permits thereof
22177-N | Veolia ES Technical Solutions, LLC | 173.185(f)(1), 173.185(f)(3), 173.185(f)(3)(iii) | To authorize the transportation in commerce of one UN 50D Large Packaging containing damaged lithium ion cells for the purpose of disposal. (mode 1)
22179-N | BAE Systems Space & Mission Systems Inc | 173.24(g), 173.185(a), 173.301(f), 173.302(a), 173.304(a) | To authorize the transportation in commerce of certain non-DOT specifications packagings (spacecraft) containing Division 2.1 and 2.2 compressed gases and lithium ion batteries installed in equipment. (mode 1)
22180-N | Trinseo LLC | 172.203(a), 172.302(c), 173.31(d)(1)(ii) | To authorize the transportation in commerce of tank cars in which the manway cover gasket has been subjected to the leak detection method(s) in lieu of a visual inspection. (mode 2)
22181-N | The Research Foundation for The State University of New York | 173.199(a)(1) | To authorize the transportation in commerce of mice infected with Division 6.2 (infectious substance) hazardous materials in alternative packaging. (mode 1)
22183-N | GS Yuasa Lithium Power, Inc | 173.185(a)(1) | To authorize the transportation in commerce of prototype and low production lithium batteries aboard cargo-only aircraft. (mode 4)
22184-N | Kalitta Air, LLC | 173.27(b)(2) | To authorize the transportation in commerce of UN3538 articles containing non-flammable, non-toxic gas, n.o.s. which are forbidden for air transportation by cargo-only aircraft. (mode 4)
22187-N | The Greenbrier Companies, Inc | 172.203(a), 172.302(c), 179.2(a)(2), 179.3(a), 179.6 | To authorize the use of a Design Certifying Engineer to certify tank car designs, including alterations, conversions, and repairs, in lieu of an approval issued by the Association of American Railroads (AAR). (mode 2)
22188-N | Arkedge Space Inc | 173.185(e) | To authorize the transportation in commerce of a lithium ion battery design that is not of a type proven to have passed the testing requirements of section 38.3 of the UN Manual of Tests and Criteria via cargo-only aircraft. (mode 4)
22193-N | Samsung SDI Battery Systems GmbH (agent) | 173.185(e) | To authorize the transportation of prototype lithium ion batteries in excess of 35 kgs aboard cargo-only aircraft. (mode 4)

[FR Doc. 2026-02087 Filed 1-30-26; 8:45 am]

BILLING CODE 4910-60-P